DEPARTMENT OF COMMERCE

National Oceanic and Atmospheric Administration

50 CFR Part 665

[Docket No. 241101-0287]

RIN 0648-BN03

Pacific Island Fisheries; Amendment 7 to the Fishery Ecosystem Plan for the American Samoa Archipelago and Final Rule; Discontinue Rebuilding Plan for American Samoa Bottomfish and Implement Annual Catch Limits and Accountability Measures for Fishing Years 2024-2026

AGENCY: National Marine Fisheries Service (NMFS), National Oceanic and Atmospheric Administration (NOAA), Department of Commerce.

ACTION: Final rule.

SUMMARY: This final rule amends the Fishery Ecosystem Plan for the American Samoa Archipelago (FEP) to discontinue the rebuilding plan for American Samoa bottomfish and implements single-species annual catch limits (ACL) and accountability measures (AM) for bottomfish in the American Samoa archipelago for fishing years 2024, 2025 and 2026. The action is necessary because new best scientific information indicates the fishery is not overfished or experiencing overfishing, and new ACLs and AMs are warranted. This final rule supports the long-term sustainability of the fishery.

DATES: This rule is effective December 9, 2024.

ADDRESSES: Background information on the bottomfish fishery in American Samoa is found in the FEP available from the Western Pacific Regional Fishery Management Council, 1164 Bishop St., Suite 1400, Honolulu, HI 96813, telephone 808-522-8220, fax 808-522-8226, or https://www.wpcouncil.org. Copies of supporting documents for this action are available at https://www.regulations.gov/docket/NOAA-NMFS-2024-0088, or from Sarah Malloy, Regional Administrator, NMFS Pacific Islands Regional Office (PIRO), 1845 Wasp Blvd., Bldg. 176, Honolulu, HI 96818.

FOR FURTHER INFORMATION CONTACT: Keith Kamikawa, NMFS Pacific Islands Regional Office, Sustainable Fisheries, 808-725-5177.

SUPPLEMENTARY INFORMATION: NMFS and the Western Pacific Fishery Management Council (Council) manage the bottomfish fishery in the U.S. Exclusive Economic Zone (i.e., Federal waters, generally 3-200 nautical miles (nmi) (6-345 kilometers (km)) around American Samoa under the FEP for the American Samoa Archipelago, as authorized by the Magnuson-Stevens Fishery Conservation and Management Act (Magnuson-Stevens Act). The 2019 stock assessment for the American Samoa bottomfish fishery indicated that the stock was overfished and experiencing overfishing. The fishery has therefore been managed under a rebuilding plan since 2022 (87 FR 25590, May 5, 2022). However, in September 2023 NMFS determined that none of the stocks in the fishery are overfished and were not overfished in the year in which the 2019 overfished determination was made or in any year since. Accordingly, NMFS is discontinuing the rebuilding plan, and implementing new ACLs and AMs to prevent overfishing and provide sustainable management for the fishery consistent with the FEP, the Magnuson-Stevens Act and implementing regulations.

NMFS is implementing the following single-species ACLs for each of the bottomfish management unit species (BMUS) assessed by the 2023 benchmark stock assessment for fishing years 2024, 2025 and 2026. The fishing year for American Samoa bottomfish begins on January 1 and ends on December 31.

Table 1—ACLs for American Samoa BMUS for Fishing Years 2024, 2025, and 2026
Species | Samoan name | ACL (lb/kg)
Aphareus rutilans | Palu-gutusiliva | 8,554/3,880
Aprion virescens | Asoama | 4,872/2,210
Caranx lugubris | Tafauli | 3,086/1,400
Etelis coruscans | Palu-loa | 4,872/2,210
Lethrinus rubrioperculatus | Filoa-paomumu | 8,554/3,880
Lutjanus kasmira | Savane | 16,645/7,550
Pristipomoides flavipinnis | Palu-sina | 2,579/1,170
Pristipomoides zonatus | Palu-ula | 1,521/690
Variola louti | Velo | 2,205/1,000

All ACLs are below the overfishing limits (equal to 50 percent risk of overfishing), and below the allowable biological catches established by the Council's Scientific and Statistical Committee, consistent with National Standard 1 of the Magnuson-Stevens Act. Further, NMFS is establishing indicator species for E. carbunculus and P. filamentosus, which were not assessed in the 2023 stock assessment due to data limitations. E. coruscans is the indicator species for E. carbunculus and P. flavipinnis is the indicator species for P. filamentosus. This rule does not establish separate ACLs for E. carbunculus and P. filamentosus. Instead, they are be subject to the post-season AM based on catch of the indicator species, as defined at 50 CFR 600.310(d)(2)(ii).

As an AM for all assessed species, if the average catch from the most recent 3-year period exceeds the ACL for any species, NMFS will reduce the ACL for that species in the subsequent year by the amount of overage. Although the ACLs apply to Federal waters, both catch from territorial and Federal waters will be counted towards the ACLs. American Samoa does not currently implement catch limits in territorial waters. As an additional performance measure specified in the FEP, if catches exceed an ACL more than once in a 4-year period, the Council must re-evaluate the ACL process, and adjust the system, as necessary, to improve its performance and effectiveness for that species.

This rule is consistent with recommendations made by the Council at its 197th meeting in December 2023. Additional background information on this action is in the preamble to the proposed rule (89 FR 67402, August 20, 2024).

Comments and Responses

On August 2, 2024, NMFS published a notice of availability for the draft amendment and request for public comments (89 FR 63155). The comment period ended on October 1, 2024. On August 20, 2024, NMFS published the associated proposed rule and request for public comments (89 FR 67402), and NMFS did not receive any comments on the Amendment. The comment period for the proposed rule ended on October 4, 2024. NMFS received one comment on the proposed rule that was generally in support of the action. NMFS made no changes to the final rule based on the public comment received.

Comment 1: There appears to be very few negative biophysical impacts created by this proposal. Implementing single species ACLs will prevent overfishing of individual BMUS species and allow the use of an AM to diminish the effects of harvest for individual species. Consistent year-to-year harvest will reduce economic stress in relation to socioeconomic standings, and a more sustainable approach to fishing will be introduced, ultimately increasing profit. There is no evidence of the proposed action conflicting with Federal rules or putting smaller commercial entities at a disadvantage compared to larger entities.

Response: NMFS agrees, and we will continue to manage the fishery in Federal waters to perpetuate sustainable fisheries resources for communities in American Samoa, consistent with the Magnuson-Steven Act, the FEP and implementing regulations.

Changes From the Proposed Rule

This final rule contains one minor technical change from the proposed rule for consistency in the regulatory text, to clarify that the post-season overage adjustment would apply if the ACL is exceeded rather than if it is reached.

Classification

Pursuant to section 304(b)(1)(A) of the Magnuson-Stevens Act, the NMFS Assistant Administrator has determined that this rule is consistent with the FEP, other provisions of the Magnuson-Stevens Act, and other applicable law.

The Chief Counsel for Regulation of the Department of Commerce certified to the Chief Counsel for Advocacy of the Small Business Administration during the proposed rule stage that this action would not have a significant economic impact on a substantial number of small entities. The factual basis for the certification was published in the proposed rule and is not repeated here. NMFS received one comment on the proposed rule that was generally in support of the action; no comments were received regarding this certification. As a result, a final regulatory flexibility analysis was not required and none was prepared.

This final rule has been determined to be not significant for purposes of Executive Order 12866.

This final rule contains no information collection requirements under the Paperwork Reduction Act of 1995.

List of Subjects in 50 CFR Part 665

Accountability measures, American Samoa, annual catch limits, bottomfish management unit species, Fisheries, Fishing, Pacific Islands, Western Pacific.

Dated: November 1, 2024.
Samuel D. Rauch III,
Deputy Assistant Administrator for Regulatory Programs, National Marine Fisheries Service.

For the reasons set out in the preamble, NMFS amends 50 CFR part 665 as follows:

PART 665—FISHERIES IN THE WESTERN PACIFIC

1. The authority citation for 50 CFR part 665 continues to read as follows:

Authority: 16 U.S.C. 1801 et seq.

2. Revise § 665.103 to read as follows:

§ 665.103 Prohibitions.

In addition to the general prohibitions specified in § 600.725 of this chapter and § 665.15, it is unlawful for any person to fish for American Samoa bottomfish MUS or ECS using gear prohibited under § 665.104.

3. Revise § 665.106 to read as follows:

§ 665.106 American Samoa annual catch limits (ACL).

(a) Annual catch limits (ACL). In accordance with § 665.4, the ACLs for American Samoa bottomfish MUS during fishing years 2024, 2025 and 2026 are as follows:

Table 1 to Paragraph (a)
Species | Samoan name | ACL (lb)
Aphareus rutilans | Palu-gutusiliva | 8,554
Aprion virescens | Asoama | 4,872
Caranx lugubris | Tafauli | 3,086
Etelis coruscans | Palu-loa | 4,872
Lethrinus rubrioperculatus | Filoa-paomumu | 8,554
Lutjanus kasmira | Savane | 16,645
Pristipomoides flavipinnis | Palu-sina | 2,579
Pristipomoides zonatus | Palu-ula | 1,521
Variola louti | Velo | 2,205

(b) Post-season accountability measure (AM). If the average catch of any species in the most recent three years exceeds its specified ACL, the Regional Administrator will make an overage adjustment in a separate rulemaking to reduce the ACL for that species for the subsequent year by the amount of the overage. All ACLs for species for which the three most recent years of catch did not exceed the ACL will remain unchanged.

(c) Indicator species. E. coruscans will serve as an indicator species for E. carbunculus and P. flavipinnis will serve as an indicator species for P. filamentosus. There are no separate ACLs and AMs for E. carbunculus and P. filamentosus. E. carbunculus will be subject to the post-season AM if E. coruscans exceeds the ACL. P. filamentosus will be subject to the post-season AM if P. flavipinnis reaches exceeds the ACL.

[FR Doc. 2024-25829 Filed 11-6-24; 8:45 am]

BILLING CODE 3510-22-P